DEPARTMENT OF THE INTERIOR

National Park Service

National Register of Historic Places; Notification of Pending Nominations and Related Actions

Nominations for the following properties being considered for listing or related actions in the National Register were received by the National Park Service before May 14, 2005. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by June 29, 2005.

John W. Roberts,
Acting Chief, National Register/National Historic Landmarks Program.

Georgia

Muscogee County

Wynnton Village Historic District, Roughly bounded by Wildwood Ave., Forest Ave., 18th St., 13th St., 16th Ave. Wynnton Rd., Columbus, 05000622

Mississippi

Wilkinson County

Mosely—Woods House, 1461 Bell Rd., Yazoo City, 05000623

Missouri

Jackson County

Kansas City Title and Trust Building, 927 Walnut St., Kansas City, 05000624

North Dakota

Mercer County

St. Paul's Lutheran Church, 4474 1st NW., Hazen, 05000625

South Dakota

Day County

First National Bank Building, 611 Main St., Webster, 05000626

Deuel County

Herrick Barn, 0.5 mi NW of Jct. Deuel Cty Hwy 310 and SD 101, Gary, 05000628

McPherson County

Leola Post Office, 741 Sherman St., Leola, 05000627

[FR Doc. 05-11676 Filed 6-13-05; 8:45 am]

BILLING CODE 4312-51-P